ENVIRONMENTAL PROTECTION AGENCY

[EPA-HQ-OPP-2009-0143; FRL-8801-3]

Computer Science Corporation, et al.; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter will be transferred to Computer Science Corporation and its subcontractors, Yoh IT, Poloma, Disys, Barrett & Associates, Apptis, Excel Corp., Apex System, Inc., General Dynamics, Kforce, and Apex System in accordance with 40 CFR 2.307(h)(3) and 2.308(i)(2). Computer Science Corporation and its subcontractors, Yoh IT, Poloma, Disys, Barrett & Associates, Apptis, Excel Corp., Apex System, Inc., General Dynamics, Kforce, and Apex System have been awarded a contract to perform work for OPP. Access to this information will enable Computer Science Corporation and its subcontractors, Yoh IT, Poloma, Disys, Barrett & Associates, Apptis, Excel Corp., Apex System, Inc., General Dynamics, Kforce, and Apex System to fulfill the obligations of the contract.

DATES: Computer Science Corporation and its subcontractors, Yoh IT, Poloma, Disys, Barrett & Associates, Apptis, Excel Corp, Apex System Inc., General Dynamics, Kforce, and Apex System will be given access to this information on or before December 28, 2009.

FOR FURTHER INFORMATION CONTACT: Felicia Croom, Information Technology and Resources Management Division (7502P), Office of Pesticide Programs, Environmental Protection Agency, 1200 Pennsylvania Ave., NW., Washington, DC 20460-0001; telephone number: (703) 305-0786; e-mail address: croom.felicia@epa.gov.

SUPPLEMENTARY INFORMATION:

I. General Information

A. Does this Action Apply to Me?

This action applies to the public in general. As such, the Agency has not attempted to describe all the specific entities that may be affected by this action. If you have any questions regarding the applicability of this action to a particular entity, consult the person listed under FOR FURTHER INFORMATION CONTACT.

B. How Can I Get Copies of this Document and Other Related Information?

EPA has established a docket for this action under docket identification (ID) number EPA-HQ-OPPT-2009-0143. Publicly available docket materials are available either in the electronic docket at http://www.regulations.gov, or, if only available in hard copy, at the Office of Pesticide Programs (OPP) Regulatory Public Docket in Rm. S-4400, One Potomac Yard (South Building), 2777 S. Crystal Drive Arlington, VA. The hours of operation of this Docket Facility are from 8:30 a.m. to 4 p.m., Monday through Friday, excluding legal holidays. The Docket telephone number is (703) 305-5805.

II. Contractor Requirements

Under Contract No. GS00T99ALD0203 Task Order EP10H000097, Computer Science Corporation and its subcontractors, Yoh IT, Poloma, Disys, Barrett & Associates, Apptis, Excel Corp., Apex System, Inc., General Dynamics, Kforce, and Apex System will provide operational and management support for the EPA Wide Area Network, web and application hosting, enterprise server, email and Lotus Notes applications, distributed systems, and workload reporting. Computer Science Corporation will also supply security and security incident response reporting for EPA.

The OPP has determined that access by Computer Science Corporation and its subcontractor, Yoh IT, Poloma, Disys, Barrett & Associates, Apptis, Excel Corp., Apex System, Inc., General Dynamics, Kforce, and Apex System to information on all pesticide chemicals may be necessary for the performance of this contract.

Some of this information may be entitled to confidential treatment. This information has been submitted to EPA under sections 3, 4, 6, and 7 of FIFRA and under sections 408 and 409 of FFDCA.

In accordance with the requirements of 40 CFR 2.307(h)(2), the contract with Computer Science Corporation and its subcontractors, Yoh IT, Poloma, Disys, Barrett & Associates, Apptis, Excel Corp., Apex System, Inc., General Dynamics, Kforce, and Apex System prohibits use of the information for any purpose not specified in the contract; prohibits disclosure of the information to a third party without prior written approval from the Agency; and requires that each official and employee of the contractor sign an agreement to protect the information from unauthorized release and to handle it in accordance with the FIFRA Information Security Manual. In addition, Computer Science Corporation and its subcontractors, Yoh IT, Poloma, Disys, Barrett & Associates, Apptis, Excel Corp., Apex System, Inc., General Dynamics, Kforce, and Apex System are required to submit for EPA’s approval a security plan under which any CBI will be secured and protected against unauthorized release or compromise. No information will be provided to Computer Science Corporation and its subcontractors, Yoh IT, Poloma, Disys, Barrett & Associates, Apptis, Excel Corp, Apex System, Inc., General Dynamics, Kforce, and Apex System until the requirements in this document have been fully satisfied. Records of information provided to Computer Science Corporation and EPA’s Project Officers will be maintained by its subcontractors, Yoh IT, Poloma, Disys, Barrett & Associates, Apptis, Excel Corp., Apex System, Inc., General Dynamics, Kforce, and Apex System for this contract. All information supplied to Computer Science Corporation and its subcontractors, Yoh IT, Poloma, Disys, Barrett & Associates, Apptis, Excel Corp., Apex System, Inc., General Dynamics, Kforce, and Apex System by EPA for use in connection with this contract will be returned to EPA when the Computer Science Corporation and its subcontractors, Yoh IT, Poloma, Disys, Barrett & Associates, Apptis, Excel Corp., Apex System, Inc., General Dynamics, Kforce, and Apex System have completed their work.

List of Subjects

Environmental protection, Business and industry, Government contracts, Government property, Security measures.

Dated: December 15, 2009.
Oscar Morales,
Acting, Director, Office of Pesticide Programs.

[FR Doc. E9-30260 Filed 12-22-09; 8:45 am]

BILLING CODE 6560-50-S